DEPARTMENT OF HOMELAND SECURITY

Coast Guard

33 CFR Part 165

[Docket No. USCG-2025-0457]

Safety Zones; Annual Events in the Captain of the Port Detroit Zone

AGENCY: Coast Guard, DHS.

ACTION: Notice of enforcement of regulation.

SUMMARY: The Coast Guard will enforce various safety zones for annual marine events in the Captain of the Port Detroit zone. Enforcement of these safety zones is necessary to protect the safety of life and property on the navigable waters immediately prior to, during, and immediately after these events. During each enforcement period, no person or vessel may enter the respective safety zone without permission of the Captain of the Port Detroit or his designated representative.

DATES: The regulations in 33 CFR 165.941 will be enforced for the safety zones for the events on the dates and times specified in the SUPPLEMENTARY INFORMATION section below.

FOR FURTHER INFORMATION CONTACT: If you have questions on this document, call or email Tracy Girard, Prevention Department, U.S. Coast Guard; telephone (313) 568-9564, email Tracy.M.Girard@uscg.mil.

SUPPLEMENTARY INFORMATION: The Coast Guard will enforce the safety zones listed in 33 CFR 165.941, Table 1, at the following dates and times for the following events:

Algonac Fireworks Festival, Algonac, MI: The safety zone listed in Table 1 to § 165.941, item (7), will be enforced from 8:30 p.m. through 11 p.m. on July 5, 2025. In the case of inclement weather on July 5, 2025, this safety zone will be enforced from 8:30 p.m. through 11 p.m. on July 6, 2025.

Bay City Fireworks Festival, Bay City, MI: The safety zone listed in Table 1 to § 165.941, item (8), will be enforced from 9:30 p.m. through 11 p.m. on July 3, July 4, and July 5, 2025. In the case of inclement weather on any scheduled day, this safety zone will be enforced from 9:30 p.m. through 11 p.m. on July 6, 2025.

Caseville Fireworks Festival, Caseville, MI: The safety zone listed in the § 165.941 Table 1, item (9) will be enforced from 10 p.m. through 10:30 p.m. on July 5, 2025. In the case of inclement weather on July 5, 2025, this safety zone will be enforced from 10 p.m. through 10:30 p.m. on July 6, 2025.

Grosse Ile Fireworks, Grosse Ile, MI: The safety zone listed in the § 165.941 Table 1, item (11) will be enforced from 10 p.m. through 10:30 p.m. on July 5, 2025. In the case of inclement weather on July 5, 2025, this safety zone will be enforced from 10 p.m. through 10:30 p.m. on July 6, 2025.

Grosse Pointe Farms, Grosse Pointe Farms, MI: The safety zone listed in the § 165.941 Table 1, item (12) will be enforced from 10 p.m. through 10:30 p.m. on July 4, 2025. In the case of inclement weather on July 4, 2025, this safety zone will be enforced from 10 p.m. through 10:30 p.m. on July 5, 2025.

Grosse Pointe Yacht Club Fireworks, Grosse Pointe Shores, MI: The safety zone listed in Table 1 to § 165.941, item (13), will be enforced from 10 p.m. through 10:30 p.m. on July 4, 2025. In the case of inclement weather on July 4, 2025, this safety zone will be enforced from 10 p.m. through 10:30 p.m. on July 5, 2025.

Harbor Beach Fireworks, Harbor Beach, MI: The safety zone listed in Table 1 to § 165.941, item (14), will be enforced from 9:30 p.m. through 11 p.m. on July 12, 2025. In the case of inclement weather on July 12, 2025, this safety zone will be enforced from 9:30 p.m. through 11 p.m. on July 13, 2025.

Belle Maer Harbor Fireworks, Harrison Township, MI: The safety zone listed in Table 1 to § 165.941, item (15), will be enforced from 10 p.m. through 10:30 p.m. on July 4, 2025. In the case of inclement weather on July 4, 2025, this safety zone will be enforced from 10 p.m. through 10:30 p.m. on July 5, 2025.

Harrisville Fireworks, Harrisville, MI: The safety zone listed in Table 1 to § 165.941, item (16) will be enforced from 10 p.m. through 10:30 p.m. on July 5, 2025. In the case of inclement weather on July 5, 2025, this safety zone will be enforced from 10 p.m. through 10:30 p.m. on July 6, 2025.

Lexington Fireworks, Lexington, MI: The safety zone listed in Table 1 to § 165.941, item (17) will be enforced from 10 p.m. through 10:30 p.m. on July 4, 2025. In the case of inclement weather on July 4, 2025, this safety zone will be enforced from 10 p.m. through 10:30 p.m. on July 5, 2025.

Oscoda Township Fireworks, Oscoda, MI: The safety zone listed in Table 1 to § 165.941, item (18) will be enforced from 10 p.m. through 10:30 p.m. on July 4, 2025. In the case of inclement weather on July 4, 2025, this safety zone will be enforced from 10 p.m. through 10:30 p.m. on July 5, 2025.

Port Austin Fireworks, Port Austin, MI: The safety zone listed in Table 1 to § 165.941, item (19), will be enforced from 10 p.m. through 10:30 p.m. on July 4, 2025. In the case of inclement weather on July 4, 2025, this safety zone will be enforced from 10 p.m. through 10:30 p.m. on July 5, 2025.

Port Sanilac Fireworks, Port Sanilac, MI: The safety zone listed in Table 1 to § 165.941, item (20), will be enforced from 10 p.m. through 10:30 p.m. on July 5, 2025. In the case of inclement weather on July 5, 2025, this safety zone will be enforced from 10 p.m. through 10:30 p.m. on July 6, 2025.

St. Clair Fireworks, St. Clair, MI: The safety zone listed in Table 1 to § 165.941, item (21), will be enforced from 10 p.m. through 10:45 p.m. on July 4, 2025. In the case of inclement weather on July 4, 2025, this safety zone will be enforced from 10 p.m. through 10:45 p.m. on July 5, 2025.

St. Clair Shores Fireworks, St. Clair Shores, MI: The safety zone listed in Table 1 to § 165.941, item (22), will be enforced from 9:30 p.m. through 10:15 p.m. on June 27, 2025. In the case of inclement weather on June 27, 2025, this safety zone will be enforced from 9:30 p.m. through 10:15 p.m. on June 28, 2025.

Tawas Fireworks, Tawas, MI: The safety zone listed in Table 1 to § 165.941, item (23), will be enforced from 10 p.m. through 11 p.m. on July 4, 2025. In the case of inclement weather on July 4, 2025, this safety zone will be enforced from 10 p.m. through 11 p.m. on July 5, 2025.

Old Club Fireworks, Harsens Island, MI: The safety zone listed in Table 1 to § 165.941, item (26), will be enforced from 10 p.m. through 11 p.m. on July 5, 2025. In the case of inclement weather on July 5, 2025, this safety zone will be enforced from 10 p.m. through 11 p.m. on July 6, 2025.

Marine City Maritime Days Fireworks Marine City, MI: The safety zone listed in Table 1 to § 165.941, item (33), will be enforced from 10 p.m. through 11 p.m. on August 1, 2025. In the case of inclement weather on August 1, 2025, this safety zone will be enforced from 10 p.m. through 11 p.m. on August 2, 2025.

Put-In-Bay 4th of July Fireworks Put-In-Bay, OH: The safety zone listed in Table 1 to § 165.941, item (36) will be enforced from 10 p.m. through 11 p.m. on July 4, 2025.

Lakeside Chautauqua July 4th Fireworks, Lakeside, OH: The safety zone listed in Table 1 to § 165.941, item (40) will be enforced from 9:30 p.m. through 10:30 p.m. on July 4, 2025.

Harrisville Fireworks, Harrisville, MI: The safety zone listed in Table 1 to § 165.941, item (16) will be enforced from 10 p.m. through 10:30 p.m. on July 5, 2025. In the case of inclement weather on July 5, 2025, this safety zone will be enforced from 10 p.m. through 10:30 p.m. on July 6, 2025.

The locations for these events are in Table 1 to § 165.941. Under the provisions of 33 CFR 165.23, entry into, transiting, or anchoring within these safety zones during the enforcement period is prohibited unless authorized by the Captain of the Port Detroit or his designated representative. Vessels that wish to transit through the safety zones may request permission from the Captain of the Port Detroit or his designated representative. Requests must be made in advance and approved by the Captain of Port Detroit before transits will be authorized. Approval will be granted on a case-by-case basis. The Captain of the Port Detroit may be contacted via U.S. Coast Guard Sector Detroit on channel 16, VHF-FM or by calling (313) 568-9564. The Coast Guard will give notice to the public via Local Notice to Mariners and VHF radio broadcasts that the regulation is in effect.

This notice of enforcement is issued under authority of 33 CFR 165.941 and 5 U.S.C. 552(a). If the Captain of the Port Detroit determines that any of these safety zones need not be enforced for the full duration stated in this notice, he may suspend such enforcement and notify the public of the suspension via a Broadcast Notice to Mariners.

Dated: June 24, 2025.
Richard P. Armstrong,
Captain, U.S. Coast Guard, Captain of the Port Detroit.

[FR Doc. 2025-12033 Filed 6-27-25; 8:45 am]

BILLING CODE 9110-04-P